CONSUMER PRODUCT SAFETY COMMISSION

Notice of Roundtable on Cribs and Other Sleeping Environments for Infants

AGENCY: Consumer Product Safety Commission.

ACTION: Notice.

SUMMARY: On August 14, 2008, the Consumer Product Safety Improvement Act (CPSIA) of 2008 was signed into law. Section 104 of the CPSIA requires the Commission to study and develop safety standards for durable infant and toddler products. The Commission is charged with examining and assessing the effectiveness of any voluntary consumer product safety standards for these products in consultation with representatives of consumer groups, juvenile product manufacturers, and independent child product engineers and experts. As part of the consultation process, the Commission will hold a Roundtable on Cribs and Other Sleeping Environments for Infants.

DATES: The Roundtable will be held from 9:30 a.m. to 4 p.m. on Wednesday, April 22, 2009.

ADDRESSES: The Roundtable will be held at CPSC's headquarters building at 4330 East West Highway, Bethesda, Maryland 20814, 4th Floor Hearing Room. There is no charge to attend the Roundtable. If you are interested in attending, you must register online at http://www.cpsc.gov. Click on the link entitled “CPSC Staff Roundtable: Cribs and Other Sleeping Environments for Infants” under “What's Hot” near the bottom of the home page. This link also has more information about the Roundtable.

FOR FURTHER INFORMATION CONTACT: Patricia L. Hackett, Directorate for Engineering Sciences, Consumer Product Safety Commission, 4330 East West Highway, Bethesda, Maryland 20814; telephone (301) 504-7577 or e-mail: phackett@cpsc.gov.

SUPPLEMENTARY INFORMATION: On August 14, 2008, the CPSIA was signed into law. Section 104 of the CPSIA requires the Commission to study and develop safety standards for durable infant and toddler products. Section 104 of the CPSIA requires the Commission to examine and assess the effectiveness of any voluntary consumer product safety standards for these products in consultation with representatives of consumer groups, juvenile product manufacturers, and independent child product engineers and experts. Section 104(b)(1)(B) of the CPSIA requires the Commission to promulgate consumer product safety standards that are substantially the same as such voluntary standards or are more stringent than such voluntary standards if the Commission determines that more stringent standards would further reduce the risk of injury associated with such products.

The purpose of the Roundtable is to consult with interested stakeholders pursuant to section 104 of the CPSIA and to solicit input regarding the adequacy of the current voluntary and mandatory standards. At the Roundtable, CPSC staff intends to review recent incident data and provide copies of comments received from the Advance Notice of Proposed Rulemaking on Cribs, published on November 25, 2008 at 73 FR 71570.

All attendees will have the opportunity to ask questions or make comments at the Roundtable. For those attendees interested in making a formal presentation, please e-mail an abstract of 100 words or less, preferably in a Word format, with “Crib Roundtable Abstract” written in the subject line of the e-mail. The e-mail should be sent to Patricia Hackett at phackett@cpsc.gov no later than April 6, 2009. The abstracts may be edited for inclusion in the agenda for the Roundtable. In addition, please inform Patricia Hackett of any special equipment needs required to make a presentation. While an effort will be made to accommodate all persons who wish to make a presentation, the time allotted for presentations will depend on the number of persons who wish to speak on a given topic and the Roundtable schedule. If a presenter wishes attendees to have copies of his/her presentation or other handouts, the presenter should bring copies to the Roundtable. Please note that all comments should be restricted to cribs, bassinets, play yards, and the current voluntary or mandatory standards pertaining to these products. Accessories, including mattresses, bedding, crib tents, sleep positioners, etc., while of concern to the staff, will not be addressed at this Roundtable.

Dated: March 25, 2009.
Todd A. Stevenson,
Secretary, Consumer Product Safety Commission.

[FR Doc. E9-7034 Filed 3-27-09; 8:45 am]

BILLING CODE 6355-01-P